ENVIRONMENTAL PROTECTION AGENCY

[EPA-HQ-OPP-2006-0616; FRL-8299-1]

Agency Information Collection Activities; Submission to OMB for Review and Approval; Comment Request; Submission of Unreasonable Adverse Effects Information Under FIFRA Section 6(a)(2); EPA ICR Number 1204.10; OMB Control Number 2070-0039

AGENCY: Environmental Protection Agency (EPA).

ACTION: Notice.

SUMMARY: In compliance with the Paperwork Reduction Act (44 U.S.C. 3501 et seq.), this document announces that a request to renew an existing Information Collection Request (ICR) has been forwarded to the Office of Management and Budget (OMB) for review and approval. The ICR, which is abstracted below, describes the nature of the information collection activity and its expected burden and costs.

DATES: Comments may be submitted on or before May 16, 2007.

ADDRESSES: Submit your comments, referencing Docket ID No. EPA-HQ-OPP-2006-0616, both to (1) EPA online using www.regulations.gov (our preferred method), or by mail to: OPP Regulatory Public Docket (7502P), Office of Pesticide Programs (OPP), Environmental Protection Agency, 1200 Pennsylvania Ave., NW., Washington, DC 20460-0001, and (2) OMB by mail to: Office of Information and Regulatory Affairs, Office of Management and Budget (OMB), Attention: Desk Officer for EPA, 725 17th Street, NW., Washington, DC 20503.

FOR FURTHER INFORMATION CONTACT: Kathryn Boyle, Field and External Affairs Division, Office of Pesticide Programs, 7506P, Environmental Protection Agency, 1200 Pennsylvania Ave., NW., Washington, DC 20460; telephone number: 703-305-6304; fax number: 703-305-5884; e-mail address: boyle.kathryn@epa.gov.

SUPPLEMENTARY INFORMATION: EPA has submitted the following ICR to OMB for review and approval according to the procedures prescribed in 5 CFR 1320.12. On October 25, 2006 (71 FR 62429), EPA sought comments on this ICR pursuant to 5 CFR 1320.8(d). EPA received no comments on this ICR during the 60-day comment period. Any additional comments on this ICR should be submitted to EPA and OMB within 30 days of this notice.

EPA has established a public docket for this ICR under Docket ID No. EPA-HQ-OPP-2006-0616, which is available for online viewing at www.regulations.gov, or in person viewing at the OPP Regulatory Public Docket in Rm. S-4400, One Potomac Yard (South Building), 2777 S. Crystal Drive, Arlington, VA. This docket facility is open from 8:30 a.m. to 4 p.m., Monday through Friday, excluding legal holidays. The docket telephone number is (703) 305-5805.

Use EPA's electronic docket and comment system at www.regulations.gov, to submit or view public comments, access the index listing of the contents of the docket, and to access those documents in the docket that are available electronically. Once in the system, select “docket search,” then key in the Docket ID number identified above. Please note that EPA's policy is that public comments, whether submitted electronically or in paper, will be made available for public viewing at www.regulations.gov as EPA receives them and without change, unless the comment contains copyrighted material, CBI, or other information whose public disclosure is restricted by statute. For further information about the electronic docket, go to www.regulations.gov.

Title: Submission of Unreasonable Adverse Effects Information Under FIFRA Section 6(a)(2)

ICR Status: This is a request to renew an existing approved collection, which is scheduled to expire on May 31, 2007. Under OMB regulations, the Agency may continue to conduct or sponsor the collection of information while this submission is pending at OMB. This ICR describes the nature of the information collection and its estimated burden and cost.

Abstract: Section 6(a)(2) of Federal Insecticide, Fungicide, and Rodenticide Act requires pesticide registrants to submit information to the Agency which may be relevant to the balancing of the risks and benefits of a pesticide product. The statute requires the registrant to submit any factual information that it acquires regarding adverse effects associated with its pesticidal products, and it is up to the Agency to determine whether or not that factual information constitutes an unreasonable adverse effect. Responses to this collection are mandatory. The authority for this information collection is section 6(a)(2) of FIFRA, with regulations codified in 40 CFR part 159. Information submitted to EPA in response to this information collection may be protected from disclosure under FIFRA section 10.

Burden Statement: The annual public reporting and recordkeeping burden for this collection of information is estimated to average 97.3 hours per registrant (respondent). Under the PRA, burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Pesticide Registrants.

Estimated Number of Respondents: 1,720.

Frequency of Response: As needed.

Estimated Total Annual Hour Burden: 167,316.

Estimated Total Annual Burden Cost: $9,809,591.

Changes in the Estimates: This ICR renewal request reflects an increase of approximately 11,677 burden hours from that which is currently identified in the OMB Inventory of Approved ICR Burdens, to an annual respondent burden of 167,316 hours at a cost of $9,809,591 (in 2006 dollars). The change in burden reflects a number of adjustments. For this renewal ICR, there are now fewer registrants of active products (1,720 versus 1,877) and therefore fewer employees to be trained (17,200 versus 18,770) than reflected in the existing ICR.

Total burden hour estimates associated with studies are reduced because the estimated number of study submissions is reduced from 325 studies to 240. Burden estimates associated with the number of incident reports, however, are increased because of the increased volume of incident reporting (17%). Overall, considering both the decrease in studies and the increase in incidents, the total burden hours increased from 155,639 to 167,316.

Dated: April 6, 2007.
Robert Gunter,
Acting Director, Collection Strategies Division.

[FR Doc. E7-7138 Filed 4-13-07; 8:45 am]

BILLING CODE 6560-50-P